DEPARTMENT OF THE TREASURY

Office of Foreign Assets Control

Unblocking of Specially Designated National and Blocked Person Pursuant to Executive Order 13391

AGENCY: Office of Foreign Assets Control, Treasury.

ACTION: Notice.

SUMMARY: The Treasury Department's Office of Foreign Assets Control (OFAC) is publishing the name of one individual whose property and interests in property have been unblocked pursuant to Executive Order 13391 of November 22, 2005, “Blocking Property of Additional Persons Undermining Democratic Processes or Institutions in Zimbabwe.”

DATES: OFAC's actions described in this notice are effective as of November 18, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic Availability

The list of Specially Designated Nationals and Blocked Persons (SDN List) and additional information concerning OFAC sanctions programs are available from OFAC's Web site (www.treasury.gov/ofac).

Notice of OFAC Actions

On November 18, 2016, OFAC, in consultation with the U.S. Department of State, removed from the SDN List the individual listed below, whose property and interests in property were blocked pursuant to Executive Order 13391 (E.O. 13391).

1. NGUNI, Sylvester Robert; DOB 04 May 1955; Passport ZE215371 (Zimbabwe); Deputy Minister of Agriculture (individual) [ZIMBABWE—E.O. 13391].

Dated: November 18, 2016.
John E. Smith,
Acting Director, Office of Foreign Assets Control.

[FR Doc. 2016-28248 Filed 11-22-16; 8:45 am]

BILLING CODE 4810-AL-P